DEPARTMENT OF LABOR

Office of the Secretary

Combating Exploitive Child Labor Through Education

AGENCY: Bureau of International Labor Affairs, Department of Labor.

ACTION: Correction. Amendment to Notice of Intent to Solicit Cooperative Agreement Applications.

SUMMARY: In the Federal Register of April 10, 2009 (Vol. 74, p. 16428), the Department of Labor published a Notice of Intent to Solicit Cooperative Agreement Applications. This is an amendment to the “Key Dates” and “Bidders' Meeting” sections of the earlier Federal Register notice.

Amendments

A. On page 16429, Key Dates, column 1, delete the sentence: “The SGA(s) will remain open for at least 60 days from the date of publication.” Replace with the following sentence: “USDOL intends to leave the SGA open for 45-60 days from the date of publication.”

B. On page 16429, For Further Information Contact, Bidders' Meeting, column 1, delete the sentence: “USDOL intends to hold a bidders' meeting on May 28, 2009 in Washington, DC at the Department of Labor from 1:30 p.m. to 3:30 p.m.” Replace with the following sentence: “USDOL intends to hold a bidders' meeting on June 24, 2009 in Washington, DC at the Department of Labor from 1:30 p.m. to 3:30 p.m.”

C. On page 16429, For Further Information Contact, Bidders' Meeting, column 1, delete the sentence: “To register for the meeting, please call or email Ms. Doris Senko (Phone: 202-693-4843; E-mail: senko.doris@dol.gov) by May 21, 2009.” Replace with the following sentence: “To register for the meeting, please call or email Ms. Doris Senko (Phone: 202-693-4843; E-mail: senko.doris@dol.gov) by June 17, 2009.”

Agency Contacts: Ms. Lisa Harvey. E-mail address: harvey.lisa@dol.gov. All inquiries should make reference to the USDOL Combating Child Labor through Education—Solicitations for Cooperative Agreement Applications. Potential applicants should not submit inquiries to USDOL for further information on the award opportunities outlined in the April 10, 2009 Notice of Intent until after USDOL has published the solicitation(s) for cooperative agreement applications, which will occur prior to September 30, 2009.

Signed at Washington, DC, this 12th day of May, 2009.
Lisa Harvey,
Grant Officer.

[FR Doc. E9-11470 Filed 5-15-09; 8:45 am]

BILLING CODE 4510-28-P